DEPARTMENT OF HEALTH AND HUMAN SERVICES

Centers for Disease Control and Prevention

Ethics Subcommittee, Advisory Committee to the Director, Centers for Disease Control and Prevention (CDC)

In accordance with section 10(a)(2) of the Federal Advisory Committee Act (Pub. L. 92-463), CDC, announces the following meeting for the aforementioned Subcommittee:

Times and Dates: 1 p.m.-6 p.m., June 26, 2008. 8 a.m.-12 p.m., June 27, 2008.

Place: CDC, Thomas R. Harkin Global Communication Center, 1600 Clifton Road, Atlanta, GA 30333.

Status: Open to the public, limited only by the space available. The meeting room accommodates approximately 70 people. To accommodate public participation in the meeting, a conference telephone line will be available. The public is welcome to participate during the public comment periods by calling (866) 919-3560 and entering code 4168828. The public comment periods are tentatively scheduled for 5:30 p.m.-5:45 p.m. on June 26, and from 11:15 a.m.-11:30 a.m. on June 27. For security reasons, members of the public interested in attending the meeting should contact the person below. The deadline for notification of attendance is June 20, 2007.

Purpose: The Ethics Subcommittee will provide counsel to the ACD, CDC, regarding a broad range of public health ethics questions and issues arising from programs, scientists and practitioners.

Matters to Be Discussed: Agenda items will include the following topics: priorities of the Advisory Committee to the Director, ethical guidance for ventilator distribution, ethical guidance for use of traveler restrictions, ethical guidance for public health emergency preparedness and response, and updates on activities relating to CDC partnerships, genomics, and shared responsibility for stockpiling antiviral medications.

Agenda items are subject to change as priorities dictate.

For Further Information Contact: Drue Barrett, PhD, Designated Federal Official, Ethics Subcommittee, CDC, 1600 Clifton Road, NE., M/S D-50, Atlanta, Georgia 30333. Telephone (404)639-4690. E-mail: dbarrett@cdc.gov.

The Director, Management Analysis and Services Office, has been delegated the authority to sign Federal Register notices pertaining to announcements of meetings and other committee management activities, for both the CDC and the Agency for Toxic Substances and Disease Registry.

Dated: May 30, 2008.
Elaine L. Baker,
Director, Management Analysis and Services Office, Centers for Disease Control and Prevention.

[FR Doc. E8-12960 Filed 6-9-08; 8:45 am]

BILLING CODE 4163-18-P